DEPARTMENT OF TRANSPORTATION

Federal Aviation Administration

14 CFR Part 39

[Docket No. FAA-2014-0927; Directorate Identifier 2014-NM-230-AD; Amendment 39-18068; AD 2014-26-53]

RIN 2120-AA64

Airworthiness Directives; Airbus Airplanes

AGENCY: Federal Aviation Administration (FAA), DOT.

ACTION: Final rule; request for comments.

SUMMARY: We are adopting a new airworthiness directive (AD) for certain Airbus Model A319-115, A319-133, A320-214, A320-232, and A320-233 airplanes. This emergency AD was sent previously to all known U.S. owners and operators of these airplanes. This AD requires repetitive detailed visual inspections to detect discrepancies of the wing lower skin surface and inboard main landing gear (MLG) support rib lower flange location fasteners and, depending on findings, accomplishment of applicable corrective action(s). This AD was prompted by reports of failure of certain fasteners located at the wing lower skin surface and inboard MLG support rib lower flange. We are issuing this AD to detect and correct discrepancies of the fasteners at the external surface of the lower wing skin and inboard MLG support rib lower flange, which could result in an airplane not meeting its maximum loads expected in service. This condition could result in structural failure.

DATES: This AD is effective February 6, 2015 to all persons except those persons to whom it was made immediately effective by Emergency AD 2014-26-53, issued on December 16, 2014, which contained the requirements of this amendment.

The Director of the Federal Register approved the incorporation by reference of a certain publication identified in this AD as of February 6, 2015.

We must receive comments on this AD by March 9, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

Examining the AD Docket

You may examine the AD docket on the Internet at http://www.regulations.gov by searching for and locating Docket No. FAA-2014-0927; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

On December 16, 2014, we issued Emergency AD 2014-26-53, which requires repetitive detailed visual inspections to detect discrepancies of the wing lower skin surface and inboard MLG support rib lower flange location fasteners and, depending on findings, accomplishment of applicable corrective action(s). Corrective actions include fastener replacement or repair. This emergency AD was sent previously to all known U.S. owners and operators of these airplanes.

The European Aviation Safety Agency (EASA), which is the Technical Agent for the Member States of the European Union, has issued Airworthiness Directive 2014-0270R1, dated December 15, 2014 (referred to after this as the Mandatory Continuing Airworthiness Information, or “the MCAI”), to correct an unsafe condition on certain Airbus Model A319-115, A319-133, A320-214, A320-232, and A320-233 airplanes. The MCAI states:

During production of wings, a number of taperlok fasteners were found failed after installation. The fasteners in question are located at the bottom skin of the Main Landing Gear (MLG) reinforcing plate, wing skin and Gear Support Rib 5 lower flange.

This condition, if not detected and corrected could reduce the design margin of the structure [and could result in structural failure].

Based on the results of the preliminary investigation, this affects only certain A319 and A320 aeroplane Models delivered since January 2014. A321 aeroplanes are not affected, as the wing assembly is done using parallel fasteners. A318 aeroplanes are not affected, since none have been delivered since January 2014.

Prompted by these findings, EASA issued Emergency AD 2014-0270-E [dated December 11, 2014] to require repetitive inspections of the bottom skin taperlok fasteners at the MLG Rib 5 footprint location and, depending on findings, accomplishment of applicable corrective action(s).

Since that AD was issued, operator comments have indicated the need for clarification, as well as correction.

For the reason described above, this [EASA] AD is revised to add Notes for information and to correct paragraphs (1) and (2) of the AD.

This [EASA] AD is still considered to be an interim action and further AD action may follow.

Related Service Information

Airbus has issued Airbus Alert Operators Transmission (AOT) A57N006-14, Revision 00, dated December 4, 2014. The service information describes procedures for inspections of the bottom skin fasteners at the MLG rib 5 footprint location, and replacement of affected fasteners. The actions described in this service information are intended to correct the unsafe condition identified in the MCAI. You can find this information at http://www.regulations.gov by searching for and locating Docket No. FAA-2014-0927.

FAA's Determination and AD Requirements

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between This AD and the MCAI or Service Information

EASA Airworthiness Directive 2014-0270-E, dated December 11, 2014, specifies to do repetitive detailed visual inspections of the outboard MLG support rib lower flange fasteners and nuts. However, these inspections are not required by this AD. Since the specified compliance time is four months, we are considering further rulemaking to require those inspections.

FAA's Determination of the Effective Date

An unsafe condition exists that requires the immediate adoption of this AD. The FAA has found that the risk to the flying public justifies waiving notice and comment prior to adoption of this rule because discrepancies of the fasteners at the external surface of the lower wing skin and inboard MLG support rib lower flange could result in an airplane not meeting its maximum loads expected in-service. This condition could result in structural failure. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2014-0927 and Directorate Identifier 2014-NM-230-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 80 airplanes of U.S. registry.

We estimate the following costs to comply with this AD:

Estimated Costs
Action | Labor cost | Parts cost | Cost per product | Cost on U.S. operators
Inspection | 1 work-hour × $85 per hour = $85 [per inspection cycle] | $0 | $85 [per inspection cycle] | $6,800 [per inspection cycle].

We estimate the following costs to do any necessary replacements that would be required based on the results of the inspection. We have no way of determining the number of aircraft that might need these replacements:

On-Condition Costs
Action | Labor cost | Parts cost | Cost per product
Replacement | 3 work-hours × $85 per hour = $255 [per fastener replacement] | $400 [per fastener] | $655 [per fastener replacement].

We have received no definitive data that would enable us to provide cost estimates for the on-condition repairs specified in this AD.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-26-53 Airbus: Amendment 39-18068; Docket No. FAA-2014-0927; Directorate Identifier 2014-NM-230-AD.

(a) Effective Date

This AD is effective February 6, 2015 to all persons except those persons to whom it was made immediately effective by Emergency AD 2014-26-53, issued on December 16, 2014, which contained the requirements of this amendment.

(b) Affected ADs

None.

(c) Applicability

This AD applies to Airbus Model A319-115, A319-133, A320-214, A320-232, and A320-233 airplanes, certificated in any category, manufacturer serial numbers (MSN) 5817, 5826, 5837, 5848, 5855, 5864, 5875, 5886, 5896, and 5910, and MSNs 5918 and subsequent.

(d) Subject

Air Transport Association (ATA) of America Code 57, Wings.

(e) Unsafe Condition

This AD was prompted by reports of failure of certain fasteners located at the wing lower skin surface and inboard main landing gear (MLG) support rib lower flange. We are issuing this AD to detect and correct discrepancies of the fasteners at the external surface of the lower wing skin and inboard MLG support rib lower flange, which could result in an airplane not meeting its maximum loads expected in-service. This condition could result in structural failure.

(f) Compliance

Comply with this AD within the compliance times specified, unless already done.

(g) Repetitive Inspections

Within 8 days after the effective date of this AD, or within 8 days since the date of issuance of the original certificate of airworthiness or the original export certificate of airworthiness, or before further flight for any airplane that is not in operation, whichever occurs later: Do the inspections required by paragraphs (g)(1) and (g)(2) of this AD, in accordance with Airbus Alert Operators Transmission (AOT) A57N006-14, Revision 00, dated December 4, 2014. Repeat the inspections thereafter at intervals not to exceed 8 days.

(1) Do a detailed visual inspection of the external surface of the left-hand and right-hand wing lower skin surface to detect missing or broken or migrated fasteners.

(2) Do a detailed visual inspection of the inboard MLG support rib lower flange to detect missing or broken nuts or fastener tails.

(h) Corrective Actions for the Inspections Required by Paragraph (g)(1) of This AD

(1) If, during any inspection required by paragraph (g)(1) of this AD, only one discrepancy (any missing or broken or migrated fastener) is found on the left- or right-side: Before further flight, do corrective actions in accordance with a method approved by the Manager, International Branch, ANM-116, Transport Airplane Directorate, FAA. Replacement of fasteners on an airplane does not constitute terminating action for any inspection required by paragraph (g) of this AD.

(2) If, during any inspection required by paragraph (g)(1) of this AD, more than one discrepancy (any missing or broken or migrated fastener) is found on the left- or right-side: Before further flight, replace all affected fasteners on the affected side(s), in accordance with Airbus AOT A57N006-14, Revision 00, dated December 4, 2014. One fastener per side may be missing or broken or migrated provided the applicable actions required by paragraph (h)(1) of this AD are done. Replacement of fasteners on an airplane does not constitute terminating action for any inspection required by paragraph (g) of this AD.

(i) Corrective Actions for the Inspections Required by Paragraph (g)(2) of This AD

(1) If, during any inspection required by paragraph (g)(2) of this AD, only one discrepancy (any missing or broken nut or fastener tail) is found on the left- or right-side: Before further flight, do corrective actions in accordance with a method approved by the Manager, International Branch, ANM-116, Transport Airplane Directorate, FAA. Replacement of fasteners on an airplane does not constitute terminating action for any inspection required by paragraph (g) of this AD.

(2) If, during any inspection required by paragraph (g)(2) of this AD, more than one discrepancy (any missing or broken nut or fastener tail) is found on the left- or right-side: Before further flight, replace all affected fasteners on the affected side(s), in accordance with Airbus AOT A57N006-14, Revision 00, dated December 4, 2014. One fastener per side may be missing or broken or migrated provided the applicable actions required by paragraph (i)(1) of this AD are done. Replacement of fasteners on an airplane does not constitute terminating action for any inspection required by paragraph (g) of this AD.

(j) Special Flight Permits

Special flight permits, as described in Section 21.197 and Section 21.199 of the Federal Aviation Regulations (14 CFR 21.197 and 21.199), are not allowed.

(k) Other FAA Provisions

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the Manager, International Branch, send it to ATTN: Sanjay Ralhan, Aerospace Engineer, International Branch, ANM-116, Transport Airplane Directorate, FAA, 1601 Lind Avenue SW., Renton, WA 98057-3356; telephone 425-227-1405; fax 425-227-1149. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA Design Organization Approval (DOA). If approved by the DOA, the approval must include the DOA-authorized signature.

(l) Related Information

For further information about this AD, contact: Sanjay Ralhan, Aerospace Engineer, International Branch, ANM-116, Transport Airplane Directorate, FAA, 1601 Lind Avenue SW., Renton, WA 98057-3356; telephone 425-227-1405; fax 425-227-1149.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Alert Operators Transmission A57N006-14, Revision 00, dated December 4, 2014.

(ii) Reserved.

(3) For service information referenced in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 7, 2015.
Jeffrey E. Duven,
Manager, Transport Airplane Directorate, Aircraft Certification Service.

[FR Doc. 2015-00716 Filed 1-21-15; 8:45 am]

BILLING CODE 4910-13-P